DEPARTMENT OF THE TREASURY

United States Mint

Authority To Conduct Research and Development on All Circulating Coins

AGENCY: United States Mint, Treasury.

ACTION: Notice with request for comment.

SUMMARY: Congress recently enacted the Coin Modernization, Oversight, and Continuity Act of 2010 (Pub. L. 111-302) to provide the Secretary of the Treasury research and development authority for alternative metallic coinage materials. Specifically, the Secretary of the Treasury is authorized to—(1) conduct any appropriate testing of appropriate metallic coinage materials within or outside of the Department of the Treasury; and (2) solicit input from or otherwise work in conjunction with Federal and nonfederal entities, including independent research facilities or current or potential suppliers of the metallic material used in volume production of circulating coins. In accordance with Public Law 111-302, Section 2(b), in conducting research or soliciting input, the Secretary of the Treasury shall consider the following:

(A) Factors relevant to the potential impact of any revisions to the composition of the material used in coin production on the current coinage material suppliers;

(B) factors relevant to the ease of use and ability to co-circulate of new coinage materials, including the effect on vending machines and commercial coin processing equipment and making certain, to the greatest extent practicable, that any new coins work without interruption in existing coin acceptance equipment without modification; and

(C) such other factors that the Secretary of the Treasury, in consultation with merchants who would be affected by any change in the composition of circulating coins, vending machine and other coin acceptor manufacturers, vending machine owners and operators, transit officials, municipal parking officials, depository institutions, coin and currency handlers, armored-car operators, car wash operators, and American-owned manufacturers of commercial coin processing equipment, considers to be appropriate and in the public interest.

Additionally, the Secretary of the Treasury is required to report biennially to the House Financial Services Committee and the Senate Committee on Banking, Housing, and Urban Affairs on the production costs for each circulating coin, cost trends for such production, and possible new metallic materials or technologies for the production of circulating coins.

The Secretary of the Treasury has delegated to the Director of the United States Mint the authority to conduct research and development for alternative metallic coinage materials, to consider the factors specified in Public Law 111-302, Section 2(b), and to prepare a biennial report to the Congress on the current status of coin production costs and analysis of alternative metallic coinage materials.

Accordingly, the United States Mint requests public comment on the factors specified in Public Law 111-302, Section 2(b).

DATES: Comments must be submitted on or before April 4, 2011.

ADDRESSES: You may submit written comments by any of the following methods:

• E-mail: coinmaterials@usmint.treas.gov

• Fax: (202) 756-6500

• Mail: New Coin Materials Comments, Mail Stop: Manufacturing 6 North, United States Mint, 801 Ninth Street, NW., Washington, DC 20220.

• Hand Delivery/Courier: Same as mail address.

FOR FURTHER INFORMATION CONTACT: Jean Gentry, Deputy Chief Counsel, United States Mint at (202) 354-7359 (not a toll-free call).

SUPPLEMENTARY INFORMATION:

I. Background

Because of prevailing commodity market prices of certain base metals, the material costs for all circulating coin denominations have risen dramatically for the past several years. Most recently, the value of the metal content of one-cent and 5-cent coins has exceeded their face value, compelling the United States Mint to implement regulations to protect them from arbitrage—speculators buying large quantities of these coins to profit from their metal value. This situation prompted Congress to pass legislation to give the Secretary of the Treasury research and development authority to conduct studies for alternative metallic coinage materials. The new law requires the Secretary of the Treasury to consider certain factors in the conduct of research, development, and the solicitation of input or work in conjunction with Federal and nonfederal entities, and in reporting to the Congress with recommendations.

The Secretary of the Treasury has delegated to the Director of the United States Mint the authority to consider these factors and to prepare a report to the Congress recommending possible new metallic materials or technologies for the production of circulating coins. Accordingly, the United States Mint seeks information from the public on the factors specified in Public Law 111-302, Section 2(b), including factors that submitters believe the Secretary of the Treasury should consider to be appropriate and in the public interest.

II. Request for Comment

The United States Mint requests public comment from all interested persons regarding the metallic composition of all circulating coins based on the factors specified in Public Law 111-302, Section 2(b). These factors may include, but are not limited to, the effect of new coinage metallic materials on the current suppliers of coinage materials; the acceptability of new coinage metallic materials, including physical, chemical, metallurgical and technical characteristics; metallic material, fabrication, minting, and distribution costs; metallic material availability and sources of raw metals; coinability; durability; sorting, handling, packaging and vending machines; appearance; risks to the environment or public safety; resistance to counterfeiting; commercial and public acceptance; and any other factor considered to be appropriate and in the public interest.

The United States Mint is not soliciting suggestions or recommendations on specific metallic coinage materials, and any such suggestions or recommendations will not be considered at this time. The United States Mint seeks public comment only on the factors to be considered in the research and evaluation of potential new metallic coinage materials.

Dated: February 28, 2011.
Richard A. Peterson,
Acting Director, United States Mint.

[FR Doc. 2011-4880 Filed 3-3-11; 8:45 am]

BILLING CODE 4810-37-P